DEPARTMENT OF ENERGY

International Energy Agency Meetings

AGENCY: Department of Energy.

ACTION: Notice of meetings.

SUMMARY: The Industry Advisory Board (IAB) to the International Energy Agency (IEA) will meet on March 20, 2019, at OECD Boulogne, 46 Quai Alphonse le Gallo, 92100 Boulogne-Billancourt, France, in connection with a joint meeting of the IEA's Standing Group on Emergency Questions (SEQ) and the IEA's Standing Group on the Oil Market (SOM) on March 21, 2019, in connection with a meeting of the SEQ on that day.

DATES: March 20-21, 2019.

ADDRESSES: 46 Quai Alphonse le Gallo, 92100 Boulogne-Billancourt, France.

FOR FURTHER INFORMATION CONTACT: Thomas Reilly, Assistant General Counsel for International and National Security Programs, Department of Energy, 1000 Independence Avenue, SW, Washington, DC 20585, 202-586-5000.

SUPPLEMENTARY INFORMATION: In accordance with section 252(c)(1)(A)(i) of the Energy Policy and Conservation Act (42 U.S.C. 6272(c)(1)(A)(i)) (EPCA), the following notice of meetings is provided:

A meeting of the Industry Advisory Board (IAB) to the International Energy Agency (IEA) will be held in Room BB1 at OECD Boulogne, 46 Quai Alphonse le Gallo, 92100 Boulogne-Billancourt, France, commencing at 9:30 a.m. on March 20, 2019. The purpose of this notice is to permit attendance by representatives of U.S. company members of the IAB at a meeting of the IEA's Standing Group on Emergency Questions (SEQ), which is scheduled to be held at the same location and time. The IAB will also hold a preparatory meeting among company representatives at the same location at 8:30 a.m. on March 20. The agenda for this preparatory meeting is to review the agenda for the SEQ meeting.

The agenda of the meeting is under the control of the SEQ and the SOM. It is expected that the SEQ and the SOM will adopt the following agenda:

Closed SEQ Session—IEA Member Countries Only

1. Adoption of the Agenda

2. Approval of the Summary Record of the 156th Meeting

3. Status of Compliance with IEP Agreement Stockholding Obligations

4. Update on the Ministerial Mandates/Oil Stockholding System Review

5. Outreach: Update on Chile

Open SEQ Session—Open to Association Countries

6. Summary of ERE 9 & notice for ERE10

7. Oil Security Toolkit

8. Mid-term Review of Spain

9. ERR of the United States

10. Industry Advisory Board Update

11. Mid-term Review of Korea

12. Outreach

13. Oral Reports by Administrations

14. Any Other Business

Schedule of SEQ & SOM Meetings 2019/2020:

—25-27 June 2019

—22-24 October 2019

—24-26 March 2020

—23-25 June 2020

—17-19 November 2020

A meeting of the Industry Advisory Board (IAB) to the International Energy Agency (IEA) will be held in Room BB1 at OECD Boulogne, 46 Quai Alphonse le Gallo, 92100 Boulogne-Billancourt, France, on March 21, 2019, commencing at 09:30 a.m. The purpose of this notice is to permit attendance by representatives of U.S. company members of the IAB at a joint meeting of the IEA's Standing Group on Emergency Questions (SEQ) and the IEA's Standing Group on the Oil Market (SOM), which is scheduled to be held at the same location and time.

The agenda of the SEQ meeting is under the control of the SEQ. It is expected that the SEQ will adopt the following agenda:

Start Meeting/Introduction

1. Adoption of the Agenda

2. Approval of Summary Record of 29 November 2018

3. Reports on Recent Oil Market and Policy Developments in IEA Countries

4. Update on the Current Oil Market Situation: Followed by Q&A

5. Presentation: “Oil 2019—Analysis and Forecasts to 2024—Supply Issues” followed by Q&A

6. Presentation: “Oil 2019—Analysis and Forecasts to 2024—Demand Issues” followed by Q&A

7. Presentation: “Oil 2019—Analysis and Forecasts to 2024—IMO” followed by Q&A

8. Presentation: “Oil 2019—Analysis and Forecasts to 2024—Refining” followed by Q&A

9. Presentation: “TBD” followed by Q&A

10. Presentation: “TBD” followed by Q&A

11. Other Business

—Tentative schedule of the next SOM meeting: 27 June 2019, Location TBC

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Issued in Washington, DC, March 7, 2019.
Thomas Reilly,
Assistant General Counsel for International and National Security Programs.

[FR Doc. 2019-04455 Filed 3-11-19; 8:45 am]

BILLING CODE 6450-01-P